DEPARTMENT OF THE INTERIOR

National Park Service

[NPS-WASO-NAGPRA-NPS0034846; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK), has completed an inventory of human remains and associated funerary objects and has determined that there is a cultural affiliation between the human remains and associated funerary objects and Indian Tribes or Native Hawaiian organizations in this notice. The human remains and associated funerary objects were removed from Leavenworth County, KS.

DATES: Repatriation of the human remains in this notice may occur on or after December 12, 2022.

ADDRESSES: Dr. Robert Hinde, Vice Provost for Academic Affairs, University of Tennessee, 527 Andy Holt Tower, Knoxville, TN 37996-0152, telephone (865) 974-2445, email vpaa@utk.edu.

SUPPLEMENTARY INFORMATION: This notice is published as part of the National Park Service's administrative responsibilities under NAGPRA. The determinations in this notice are the sole responsibility of UTK. The National Park Service is not responsible for the determinations in this notice. Additional information on the determinations in this notice, including the results of consultation, can be found in the inventory or related records held by UTK.

Description

Between 1969 and 1970, human remains representing, at minimum, seven individuals were removed from 14LV330, the Nester site, in Leavenworth County, KS. The first burial was discovered when a backhoe trench was dug in front of the Nester house in 1969. Leavenworth County Sheriff Dan Hawes contacted William Bass at the University of Kansas (KU) to excavate. William Bass and students excavated two additional burials in 1969, and a fourth burial in 1970. Following excavation, the ancestral human remains and burial objects were moved to the KU Museum of Anthropology. In 1971, Bass moved from KU to UTK, and brought the human remains from the Nester site to UTK. In addition to the four individuals identified by Bass, single skeletal elements belonging to an additional three individuals were identified during a more recent inventory. Most likely, William Bass brought them to UTK in 1971, when he started working at the university. Numerous historic funerary objects excavated from the Nester site (none of which are under the control of UTK) support a date prior to 1750 for the interments. No known individuals were identified. Only three associated funerary objects were transferred to UTK. They are one lot of beads, one lot of stone, and one lot of faunal bones.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, historical, and geographical.

Determinations

Pursuant to NAGPRA and its implementing regulations, and after consultation with the appropriate Indian Tribes and Native Hawaiian organizations, the University of Tennessee, Department of Anthropology has determined that:

• The human remains described in this notice represent the physical remains of seven individuals of Native American ancestry.

• The three lots of objects described in this notice are reasonably believed to have been placed with or near individual human remains at the time of death or later as part of the death rite or ceremony.

• There is a relationship of shared group identity that can be reasonably traced between the human remains and associated funerary objects described in this notice and the Kaw Nation, Oklahoma.

Requests for Repatriation

Written requests for repatriation of the human remains and associated funerary objects in this notice must be sent to Dr. Robert Hinde, Vice Provost for Academic Affairs, University of Tennessee, 527 Andy Holt Tower, Knoxville, TN 37996-0152, telephone (865) 974-2445, email vpaa@utk.edu. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 12, 2022. If competing requests for repatriation are received, the University of Tennessee, Department of Anthropology must determine the most appropriate requestor prior to repatriation. Requests for joint repatriation of the human remains and associated funerary objects are considered a single request and not competing requests. The University of Tennessee, Department of Anthropology is responsible for sending a copy of this notice to the Indian Tribes and Native Hawaiian organizations identified in this notice.

Authority: Native American Graves Protection and Repatriation Act, 25 U.S.C. 3003, and the implementing regulations, 43 CFR 10.9, 10.10, and 10.14.

Dated: November 2, 2022.
Melanie O'Brien,
Manager, National NAGPRA Program.

[FR Doc. 2022-24553 Filed 11-9-22; 8:45 am]

BILLING CODE 4312-52-P